NATIONAL TRANSPORTATION SAFETY BOARD

Sunshine Act Meeting

Agenda

Time and Date: 9:30 a.m., Tuesday, February 11, 2003.

Place: NTSB Conference Center, 429 L'Enfant Plaza, SW., Washington, DC 20594.

Status: The one item is open to the public.

Matter to be Considered: 7310A Pipeline accident report—Natural Gas Pipeline Rupture and Fire Near Carlsbad, New Mexico, August 19, 2000.

News Media Contact: Telephone: (202) 314-6100.

Individuals requesting specific accommodations should contact Ms. Carolyn Dargan at (202) 314-6305 by Friday, February 7, 2003.

FOR FURTHER INFORMATION CONTACT: Vicky D'Onofrio, (202) 314-6410.

Dated: January 31, 2003.
Vicky D'Onofrio,
Federal Register Liaison Officer.

[FR Doc. 03-2712 Filed 1-31-03; 2:10 pm]

BILLING CODE 7533-01-M